DEPARTMENT OF TRANSPORTATION

[STB Finance Docket No. 34216]

South Dakota Railroad Authority-Acquisition Exemption-Rutland Line, Inc.

South Dakota Railroad Authority (SDRA), a noncarrier, has filed a verified notice of exemption under 49 CFR 1150.31 to acquire approximately 22.40 miles of track from Rutland Line, Inc. in Sargent County, ND. The line to be acquired is located between milepost 65.57 at the South Dakota/North Dakota border and milepost 43.17, including approximately 275 feet of track ¹ at Geneseo Junction, ND. SDRA states that an operator for the line has not yet been determined. SDRA certifies that its projected annual revenues will not exceed those that would qualify it as a Class III rail carrier.

¹ By letter filed July 22, 2002, SDRA requested modification of the notice of the exemption to include an additional 275 feet of track beyond milepost 43.17 (Geneseo Joint Section), so that a future operator of the line may be able to interchange with another carrier. SDRA indicates that an amendment to the purchase agreement will be executed to effect the change.

SDRA reports that an agreement for the transaction was reached and the transaction was consummated on June 4, 2002. The effective date of the exemption was July 16, 2002 (7 days after the exemption was filed).

If the notice contains false or misleading information, the exemption is void ab initio. Petitions to revoke the exemption under 49 U.S.C. 10502(d) may be filed at any time. The filing of a petition to revoke will not automatically stay the transaction.

An original and 10 copies of all pleadings, referring to STB Finance Docket No. 34216, must be filed with the Surface Transportation Board, 1925 K Street NW., Washington, DC 20423-0001. In addition, a copy of each pleading must be served on Bruce E. Lindholm, Program Manager, 700 East Broadway Avenue, Pierre, SD 57501.

Board decisions and notices are available on our website at “http://www.stb.dot.gov.”

Decided: July 30, 2002.
By the Board, David M. Konschnik, Director, Office of Proceedings.
Vernon A. Williams,
Secretary.

[FR Doc. 02-19793 Filed 8-7-02; 8:45 am]

BILLING CODE 4915-00-P